UNITED STATES INSTITUTE OF PEACE

Virtual Board Meeting

AGENCY: United States Institute of Peace.

BILLING CODE: BAC 6820-AR.

DATE/TIME: Friday, July 17, 2020 (10:00 a.m.-12:00 p.m.)

LOCATION: Virtual Board Meeting Information:

Join by video: https://usiporg.zoomgov.com/j/1614762998?pwd=TXFsZHJXRTVGcVVOMjV5ZFN0TXEvdz09.

Dial-in option: +1-646-254-5252.

Meeting ID: 161 476 2998/Password: 663780.

STATUS: Open Session—Portions may be closed pursuant to Subsection (c) of Section 552(b) of Title 5, United States Code, as provided in subsection 1706(h)(3) of the United States Institute of Peace Act, Public Law 98-525.

AGENDA: July 17, 2020 Board Meeting: Chairman's Report; Vice Chairman's Report; President's Report; Reports/Updates from the Front Lines: China's Impact on Burma, Africa Center, and Generation Change; Approval of Minutes; Reports from USIP Building, Program, Audit & Finance, Search, and Security Committees.

CONTACT: Nancy Lindborg, President & CEO: nlindborg@usip.org.

Dated: July 2, 2020.
Nancy Lindborg,
President & CEO.

[FR Doc. 2020-14726 Filed 7-7-20; 8:45 am]

BILLING CODE P